ENVIRONMENTAL PROTECTION AGENCY

[FRL-7034-1]

Volatilization Rates From Water to Indoor Air—Phase II

AGENCY: Environmental Protection Agency (EPA).

ACTION: Notice of availability of a final report.

SUMMARY: The National Center for Environmental Assessment, Office of Research and Development, U. S. Environmental Protection Agency announces the availability of a final report, Volatilization Rates From Water to Indoor Air—Phase II (EPA/600/R-00/096, October 2000). The purpose of the report is to provide a methodology to assess the volatilization of chemicals from contaminated water to indoor air. The study involved the development of two-phase dynamic mass models for estimating chemical emissions from washing machines, dishwashers, showers, and bathtubs. This report presents the results of a series of experiments conducted to determine emissions from four sources of water use in a household (showers, bathtubs, washing machines, and dishwashers). Mass transfer coefficients and chemical stripping efficiencies were determined using four sources and five tracer chemicals (acetone, ethyl acetate, toluene, ethylbenzene, and cyclohexane). The report provides a step-by-step methodology for estimating emissions from any of these four sources for any chemical. This research was conducted under the Research to Improve Health Risk Assessment program (RIHRA). The goal of the RIHRA program was to generate research results to significantly improve the U.S. Environmental Protection Agency's ability to improve human health risk assessments.

ADDRESSES: The document will be made available electronically through the National Center for Environmental Assessment's web site (www.epa.gov/ncea). A limited number of paper copies will be available on or about August 24, 2001 from EPA's National Service Center for Environmental Publications (NSCEP). To obtain copies, please contact NSCEP, P.O. Box 42419, Cincinnati, OH 45242; telephone: 1-800-490-9198 or 513-489-8190; facsimile: 513-489-8695. Please provide your name and mailing address and the title and EPA number of the requested publication.

FOR FURTHER INFORMATION CONTACT: Jacqueline Moya, National Center for Environmental Assessment-Washington Office (8623D), U.S. Environmental Protection Agency, Washington DC 20460; telephone: 202-564-3245; facsimile: 202-565-0076; email:moya.jacqueline@epa.gov.

Dated: August 7, 2001.
Arthur F. Payne,
Acting Director, National Center for Environmental Assessment.

[FR Doc. 01-20662 Filed 8-15-01; 8:45 am]

BILLING CODE 6560-50-P